ENVIRONMENTAL PROTECTION AGENCY

40 CFR Part 52

[EPA-R10-OAR-2016-0290; FRL-9948-97-Region 10]

Approval and Promulgation of Implementation Plans; Washington: Spokane Second 10-Year Carbon Monoxide Limited Maintenance Plan

AGENCY: Environmental Protection Agency (EPA).

ACTION: Final rule.

SUMMARY: The Environmental Protection Agency (EPA) is approving the limited maintenance plan submitted on May 11, 2016, by the Washington Department of Ecology (Ecology), in cooperation with the Spokane Regional Clean Air Agency (SRCAA) for the Spokane carbon monoxide (CO) maintenance area (Spokane area or area). The Spokane area includes the cities of Spokane, Spokane Valley, Millwood, and surrounding urban areas in Spokane County, Washington. This plan addresses the second 10-year maintenance period for the National Ambient Air Quality Standards (NAAQS) promulgated for CO, as revised in 1985. The Spokane area has had no exceedances of the CO NAAQS since 1997 and monitored CO levels in the area continue to decline steadily. The EPA is also approving an alternative CO monitoring strategy for the Spokane area which was submitted as part of the limited maintenance plan.

DATES: This final rule is effective August 15, 2016.

ADDRESSES: The EPA has established a docket for this action under Docket ID No. EPA-R10-OAR-2016-0290. All documents in the docket are listed on the http://www.regulations.gov Web site. Although listed in the index, some information may not be publicly available, i.e., Confidential Business Information or other information the disclosure of which is restricted by statute. Certain other material, such as copyrighted material, is not placed on the Internet and is publicly available only in hard copy form. Publicly available docket materials are available at http://www.regulations.gov or at EPA Region 10, Office of Air and Waste, 1200 Sixth Avenue, Seattle, Washington 98101. The EPA requests that you contact the person listed in the FOR FURTHER INFORMATION CONTACT section to schedule your inspection. The Regional Office's official hours of business are Monday through Friday, 8:30 to 4:30, excluding Federal holidays.

FOR FURTHER INFORMATION CONTACT: Jeff Hunt, Air Planning Unit, Office of Air and Waste (AWT-150), Environmental Protection Agency, Region 10, 1200 Sixth Ave., Suite 900, Seattle, WA 98101; telephone number: (206) 553-0256; email address: hunt.jeff@epa.gov.

SUPPLEMENTARY INFORMATION:

Table of Contents

I. Background Information

II. Final Action

III. Incorporation by Reference

IV. Statutory and Executive Orders Review

I. Background Information

On May 27, 2016, the EPA proposed to approve the limited maintenance plan submitted by the State of Washington for the Spokane CO area, including proposed approval of an alternative CO monitoring strategy and removal of an obsolete site-specific order and amendment for the former Kaiser Aluminum and Chemical Corporation's aluminum reduction plant (81 FR 33632). An explanation of the Clean Air Act requirements, a detailed analysis of the submittal, and the EPA's reasons for proposing approval were provided in the notice of proposed rulemaking, and will not be restated here. The public comment period for this proposed rule ended on June 27, 2016. The EPA received no comments on the proposal.

II. Final Action

The EPA is approving the limited maintenance plan submitted by the State of Washington for the Spokane CO area. We are approving the request to remove the associated order and amendment for the former Kaiser Aluminum and Chemical Corporation's aluminum reduction plant located in Mead, Washington from incorporation by reference in the Washington State Implementation Plan (SIP) because the facility has been shut down, dismantled, and the operating permit has been revoked. We are also approving the State's alternative CO monitoring strategy for the Spokane area. The EPA's approval of this limited maintenance plan satisfies the Clean Air Act (CAA) section 175A requirements for the second 10-year period in the Spokane CO area.

III. Incorporation by Reference

In this rule, the EPA is finalizing regulatory text that includes incorporation by reference. In accordance with requirements of 1 CFR 51.5, the EPA is finalizing the incorporation by reference as described in the amendments to 40 CFR part 52 set forth below. These materials have been approved by the EPA for inclusion in the State implementation plan, have been incorporated by reference by the EPA into that plan, are fully federally enforceable under sections 110 and 113 of the CAA as of the effective date of the final rulemaking of EPA's approval, and will be incorporated by reference by the Director of the Federal Register in the next update to the SIP compilation.¹ The EPA has made, and will continue to make, these materials generally available through www.regulations.gov and/or at the EPA Region 10 Office (please contact the person identified in the For Further Information Contact section of this preamble for more information).

¹ 62 FR 27968 (May 22, 1997).

IV. Statutory and Executive Orders Review

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

This SIP revision is not approved to apply on any Indian reservation land in Washington or any other area where the EPA or an Indian tribe has demonstrated that a tribe has jurisdiction. In those areas, the rule does not have tribal implications and will not impose substantial direct costs on tribal governments or preempt tribal law as specified by Executive Order 13175 (65 FR 67249, November 9, 2000). However, consistent with EPA policy, the EPA provided a consultation opportunity to the Spokane Tribe in a letter dated September 11, 2015. The EPA did not receive a request for consultation.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 12, 2016. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: June 29, 2016.
Michelle L. Pirzadeh,
Acting Regional Administrator, Region 10.

For the reasons set forth in the preamble, 40 CFR part 52 is amended as follows:

PART 52—APPROVAL AND PROMULGATION OF IMPLEMENTATION PLANS

1. The authority citation for Part 52 continues to read as follows:

Authority: 42 U.S.C. 7401 et seq.

Subpart WW—Washington

2. In § 52.2470:

a. Amend paragraph (d) by removing the entries for “Kaiser Order DE 01 AQIS-3285” (state effective date 10/24/01) and “Kaiser Order Amendment #1 DE 01 AQIS-3285” (state effective date 4/9/03) from the table.

b. Amend paragraph (e) by adding an entry at the end of Table 2—Attainment, Maintenance, and Other Plans for “Carbon Monoxide 2nd 10-Year Limited Maintenance Plan.”

The addition reads as follows:

§ 52.2470 Identification of plan.

* * * * *

(e) * * *

Table 2—Attainment, Maintenance, and Other Plans
Name of SIP provision | Applicable geographic or nonattainment area | State submittal date | EPA approval date | Explanations
* * * * * * *
Carbon Monoxide 2nd 10-Year Limited Maintenance Plan | Spokane | 5/11/16 | 7/14/2016, [Insert Federal Register citation]

[FR Doc. 2016-16452 Filed 7-13-16; 8:45 am]

BILLING CODE 6560-50-P